DEPARTMENT OF THE INTERIOR

National Park Service

[N6412; NPS-WASO-NAGPRA-NPS0040806; PPWOCRADN0-PCU00RP14.R50000]

Notice of Inventory Completion: San José State University, San José, CA

AGENCY: National Park Service, Interior.

ACTION: Notice.

SUMMARY: In accordance with the Native American Graves Protection and Repatriation Act (NAGPRA), San José State University has completed an inventory of human remains and associated funerary objects and has determined that there is no lineal descendant and no Indian Tribe or Native Hawaiian organization with cultural affiliation.

DATES: Upon request, repatriation of the human remains and associated funerary objects in this notice may occur on or after September 15, 2025.

ADDRESSES: Send written requests for repatriation of the human remains and associated funerary objects in this notice to Alisha Marie Ragland, San José State University, One Washington Square, San Jose, CA 95192, email alisha.ragland@sjsu.edu.

SUPPLEMENTARY INFORMATION: This notice is published as part of the National Park Service's administrative responsibilities under NAGPRA. The determinations in this notice are the sole responsibility of San José State University, and additional information on the determinations in this notice, including the results of consultation, can be found in its inventory or related records. The National Park Service is not responsible for the determinations in this notice.

Abstract of Information Available

Human remains representing, at least, one individual have been identified. The 73 boxes of associated funerary objects contain faunal remains including fish, mammal, avian, and marine shell, soil samples, lithics and groundstone, botanical samples, and beads. Following the 1995 approval of construction projects for the expansion and restoration of the Moss Landing Marine Laboratory, CA-MNT-234 was excavated, collected, and curated at the Moss Landing Marine Laboratory Library. No known potentially hazardous substances have been used to treat any of the human remains or associated funerary objects.

Consultation

Invitations to consult were sent to the Santa Rosa Indian Community of the Santa Rosa Rancheria, California; Tule River Indian Tribe of the Tule River Reservation, California; and non-federally Indian groups: Amah Mutsun Tribal Band; Amah Mutsun Tribal Band of Mission San Juan Bautista; Costanoan Rumsen Carmel Tribe; Esselen Tribe of Monterey County; Indian Canyon Mutsun Band of Costanoan; KaKoon Ta Ruk Band of Ohlone-Costanoan Indians of the Big Sur Rancheria; The Ohlone/Costanoan Esselen Nation; Rumsen Am:a Tur:ataj Ohlone; Salinan Tribe of Monterey; Wuksache Indian Tribe/Eshom Valley Band; and the Xolon-Salinan Tribe. The Amah Mutsun Tribal Band and the Ohlone/Costanoan Esselen Nation responded to requests and participated in ongoing consultations with San José State University for CA-MNT-234.

Cultural Affiliation

The following types of information about the cultural affiliation of the human remains and associated funerary objects in this notice are available: anthropological, archaeological, geographical, historical, linguistics, oral traditional, expert opinion, and Native American traditional knowledge.

The information, including the results of consultation, identified:

1. Ohlone groups connected to the human remains and associated funerary objects.

2. No federally recognized Indian Tribe or Native Hawaiian organization is connected to the human remains and associated funerary objects.

3. No relationship of shared group identity between the earlier group and a federally recognized Indian Tribe or Native Hawaiian organization that can be reasonably traced through time.

Determinations

San José State University has determined that:

• The human remains described in this notice represent the physical remains of one individual of Native American ancestry.

• The 73 boxes of objects described in this notice are reasonably believed to have been placed intentionally with or near individual human remains at the time of death or later as part of the death rite or ceremony.

• No known lineal descendant who can trace ancestry to the human remains and associated funerary objects in this notice has been identified.

• No federally recognized Indian Tribe or Native Hawaiian organization with cultural affiliation to the human remains and associated funerary objects described in this notice has been clearly or reasonably identified.

Requests for Repatriation

Written requests for repatriation of the human remains and associated funerary objects in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains and associated funerary objects described in this notice to a requestor may occur on or after September 15, 2025. If competing requests for repatriation are received, San José State University must determine the most appropriate requestor prior to repatriation. Requests for joint repatriation of the human remains and associated funerary objects are considered a single request and not competing requests. San José State University is responsible for sending a copy of this notice to the Indian Tribes or Native Hawaiian organizations identified in this notice.

Authority: Native American Graves Protection and Repatriation Act, 25 U.S.C. 3003, and the implementing regulations, 43 CFR 10.10.

Dated: July 31, 2025.
Melanie O'Brien,
Manager, National NAGPRA Program.

[FR Doc. 2025-15402 Filed 8-13-25; 8:45 am]

BILLING CODE 4312-52-P